DEPARTMENT OF COMMERCE

National Oceanic and Atmospheric Administration

RIN 0648-XT18

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration and has made a preliminary determination that the activities authorized under this EFP would be consistent with the goals and objectives of the Monkfish Fishery Management Plan (FMP). However, further review and consultation may be necessary before a final determination is made to issue an EFP. This EFP would grant exemptions from the Monkfish Day-at-Sea (DAS) Program, as well as exempt vessels from the monkfish minimum size limits for onboard tagging purposes only.

Regulations under the Magnuson-Stevens Fishery Conservation and Management Act require publication of this notification to provide interested parties the opportunity to comment on applications for proposed EFPs.

DATES: Comments must be received on or before December 21, 2009.

ADDRESSES: You may submit written comments by any of the following methods:

• Email: NERO.EFP@noaa.gov. Include in the subject line “Comments on the GMRI Monkfish Tagging EFP.”

• Mail: Patricia A. Kurkul, Regional Administrator, NMFS, NE Regional Office, 55 Great Republic Drive, Gloucester, MA 01930. Mark the outside of the envelope “Comments on the GMRI monkfish tagging EFP, DA9-229.”

• Fax: (978) 281-9135.

FOR FURTHER INFORMATION CONTACT: Anna Macan, Fishery Management Specialist, 978-281-9165.

SUPPLEMENTARY INFORMATION: The Gulf of Maine Research Institute (GMRI), in response to a NMFS notice published in the Federal Register on June 17, 2009 (50 CFR 28668), submitted a request to use 51 unallocated 2009 Monkfish Research Set-Aside (RSA) DAS as exempted DAS to conduct research activities associated with an ongoing study to investigate large-scale movements and habitat use of monkfish. These 51 exempted DAS would allow GRMI to resume research activities for a 2008 monkfish RSA project that had to be scaled back due to a budget shortfall resulting from the inability to use all of the 2008 monkfish RSA DAS allocated to the project.

This EFP would allow up to 29 vessels to conduct tagging research in the Southern Fishery Management Area (SFMA) in conjunction with normal commercial fishing operations, using standard commercial gillnets. The goal of the project is to investigate large-scale movements of monkfish and to compare inferences about movement and habitat use from conventional and acrchival tags and otolith trace element analysis. Conventional tagging efforts would be conducted by trained captains or crew while under normal commercial fishing operations. Up to 25-50 monkfish per trip would be tagged, over the course of 51 fishing days. Data storage tags, up to 10 per trip, would only be deployed when GMRI staff is onboard.

This EFP would exempt the participating vessels from the monkfish DAS requirements found at 50 CFR 648.92(b)(1)(i) for a total of 51 DAS. A DAS exemption would reduce the cost to participating vessels, by not requiring them to expend their DAS allocation to conduct the research. This EFP would also exempt participating vessels from the monkfish minimum size restrictions at § 648.93 for the purpose of tagging monkfish during research activities. No fish below the minimum size would be landed for sale. Aside from these exemptions, fishing activities would be conducted under normal commercial practices.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: December 1, 2009.
Emily H. Menashes,
Acting Director, Office of Sustainable Fisheries, National Marine Fisheries Service.

[FR Doc. E9-28992 Filed 12-3-09; 8:45 am]

BILLING CODE 3510-22-S